DEPARTMENT OF ENERGY

Biomass Research and Development Technical Advisory Committee; Methane Hydrate Advisory Committee; Hydrogen and Fuel Cell Technical Advisory Committee; Termination

AGENCY: Office of the Under Secretary of Energy, Department of Energy.

ACTION: Termination of federal advisory committees.

SUMMARY: The Department of Energy is publishing this notice to announce that it is terminating the following three Federal Advisory Committees (FACAs) effective January 7, 2021: The Biomass Research and Development Technical Advisory Committee (BR&D TAC); Methane Hydrate Advisory Committee (MHAC); and Hydrogen and Fuel Cell Technical Advisory Committee (HTAC).

FOR FURTHER INFORMATION CONTACT: Kurt Heckman, Director, Office of Board and Councils, U.S. Department of Energy, 1000 Independence Avenue SW, Washington, DC 20585; Phone: (202) 586-1212; email: kurt.heckman@hq.doe.gov.

SUPPLEMENTARY INFORMATION: The BR&D TAC, MHAC, and HTAC FACAs are being terminated under the provisions of the Federal Advisory Committee Act (FACA) of 1972 (5 U.S.C., Appendix) and 41 CFR 102-3.55, and the Government in the Sunshine Act of 1976 (5 U.S.C. 552b), effective January 7, 2021.

Signing Authority: This document of the Department of Energy was signed on January 7, 2021, by Briana McClain, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 8, 2021.
Treena V. Garrett,
Federal Register Liaison Officer, U.S. Department of Energy.

[FR Doc. 2021-00508 Filed 1-12-21; 8:45 am]

BILLING CODE 6450-01-P